DEPARTMENT OF HOMELAND SECURITY

Coast Guard

33 CFR Parts 100, 117, 147, and 165

[USCG-2012-0062]

Quarterly Listings; Safety Zones, Security Zones, Special Local Regulations, Drawbridge Operation Regulations and Regulated Navigation Areas

AGENCY: Coast Guard, DHS.

ACTION: Notice of expired temporary rules issued.

SUMMARY: This document provides required notice of substantive rules issued by the Coast Guard and that were made temporarily effective between May 2011 and November 2011, and that expired before they could be published in the Federal Register. This notice lists temporary safety zones, security zones, special local regulations, drawbridge operation regulations and regulated navigation areas, all of limited duration and for which timely publication in the Federal Register was not possible.

DATES: This document lists temporary Coast Guard rules between May 1, 2011, and November 15, 2011, that became effective and were terminated before they could be published in the Federal Register.

ADDRESSES: The Docket Management Facility maintains the public docket for this notice. Documents indicated in this notice will be available for inspection or copying at the Docket Management Facility (M-30), U.S. Department of Transportation, West Building ground floor, room W12-140, 1200 New Jersey Avenue SE., Washington, DC 20590 between 9 a.m. and 5 p.m., Monday through Friday, except federal holidays.

FOR FURTHER INFORMATION CONTACT: For questions on this notice contact Yeoman First Class Marcus Hyde, Office of Regulations and Administrative Law, telephone (202) 372-3862. For questions on viewing, or on submitting material to the docket, contact Renee V. Wright, Program Manager, Docket Operations, telephone (202) 366-9826.

SUPPLEMENTARY INFORMATION: Coast Guard District Commanders and Captains of the Port (COTP) must be immediately responsive to the safety and security needs within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities. Special local regulations are issued to enhance the safety of participants and spectators at regattas and other marine events. Drawbridge operation regulations authorize changes to drawbridge schedules to accommodate bridge repairs, seasonal vessel traffic, and local public events. Regulated Navigation Areas are water areas within a defined boundary for which regulations for vessels navigating within the area have been established by the regional Coast Guard District Commander.

Timely publication of these rules in the Federal Register is often precluded when a rule responds to an emergency, or when an event occurs without sufficient advance notice. The affected public is, however, often informed of these rules through Local Notices to Mariners, press releases, and other means. Moreover, actual notification is provided by Coast Guard patrol vessels enforcing the restrictions imposed by the rule. Because Federal Register publication was not possible before the end of the effective period, mariners were personally notified of the contents of these safety zones, security zones, special local regulations, regulated navigation areas or drawbridge operation regulations by Coast Guard officials on-scene prior to any enforcement action. However, the Coast Guard, by law, must publish in the Federal Register notice of substantive rules adopted. To meet this obligation without imposing undue expense on the public, the Coast Guard periodically publishes a list of these temporary safety zones, security zones, special local regulations, regulated navigation areas and drawbridge operation regulations. Permanent rules are not included in this list because they are published in their entirety in the Federal Register. Temporary rules are also published in their entirety if sufficient time is available to do so before they are placed in effect or terminated. The temporary rules listed in this notice have been exempted from review under Executive Order 12666, Regulatory Planning and Review, because of their emergency nature, or limited scope and temporary effectiveness.

The following unpublished rules were placed in effect temporarily during the period between May 1, 2011 and November 15, 2011 unless otherwise indicated. To view copies of these rules, visit www.regulations.gov and search by the docket number indicated in the list below.

Dated: January 30, 2012.
K.A. Sinniger,
Chief, Office of Regulations and Administrative Law.

3rd-4th Quarter 2011 Listing
Docket No. | Location | Type | Effective date
USCG-2011-0062 | Mobile, AL | Safety Zone (Part 165) | 9/1/2011
USCG-2011-0191 | Chicago, IL | Safety Zone (Part 165) | 8/5/2011
USCG-2011-0228 | Chicago, IL | Safety Zone (Part 165) | 7/18/2011
USCG-2011-0249 | Greenville, MS | Safety Zone (Part 165) | 7/4/2011
USCG-2011-0285 | Little Rock, AR | Special Local Regulation (Part 100) | 6/4/2011
USCG-2011-0319 | Rhode Island | Safety Zone (Part 165) | 6/23/2011
USCG-2011-0353 | Brookings, OR | Safety Zone (Part 165) | 7/18/2011
USCG-2011-0354 | Rosario Strait, WA | Safety Zone (Part 165) | 10/10/2011
USCG-2011-0355 | Seattle, WA | Safety Zone (Part 165) | 10/14/2011
USCG-2011-0413 | St. Mary Parish, LA | Safety Zone (Part 165) | 5/12/2011
USCG-2011-0417 | South Bass Island, OH | Safety Zone (Part 165) | 6/25/2011
USCG-2011-0423 | Lower Mississippi River | Safety Zone (Part 165) | 5/11/2011
USCG-2011-0424 | Memphis, TN | Safety Zone (Part 165) | 5/27/2011
USCG-2011-0455 | Valdez, AK | Safety Zone (Part 165) | 7/3/2011
USCG-2011-0487 | Lower Mississippi River | Safety Zone (Part 165) | 7/2/2011
USCG-2011-0491 | Vicksburg, MS | Safety Zone (Part 165) | 7/4/2011
USCG-2011-0500 | Pittsburgh, PA | Safety Zone (Part 165) | 7/4/2011
USCG-2011-0504 | Mobile, AL | Safety Zone (Part 165) | 6/11/2011
USCG-2011-0509 | New York, NY | Drawbridge Operation Regulation (Part 117) | 9/7/2011
USCG-2011-0513 | Fort Smith, AR | Special Local Regulation (Part 100) | 7/30/2011
USCG-2011-0524 | Pittsburgh, PA | Special Local Regulation (Part 100) | 7/16/2011
USCG-2011-0537 | Natchez, MS | Safety Zone (Part 165) | 7/4/2011
USCG-2011-0538 | Port Valdez, AK | Safety Zone (Part 165) | 7/4/2011
USCG-2011-0543 | Oakmont, PA | Safety Zone (Part 165) | 7/24/2011
USCG-2011-0554 | Tampa, FL | Safety Zone (Part 165) | 7/30/2011
USCG-2011-0555 | Pensacola, FL | Safety Zone (Part 165) | 7/6/2011
USCG-2011-0556 | Niceville, FL | Safety Zone (Part 165) | 7/4/2011
USCG-2011-0557 | Fort Walton Beach, FL | Safety Zone (Part 165) | 7/4/2011
USCG-2011-0558 | Fort Walton Beach, FL | Safety Zone (Part 165) | 7/1/2011
USCG-2011-0559 | Biloxi, MS | Safety Zone (Part 165) | 7/4/2011
USCG-2011-0596 | Grande Isle, LA | Safety Zone (Part 165) | 7/2/2011
USCG-2011-0609 | Buffalo, NY | Safety Zone (Part 165) | 7/4/2011
USCG-2011-0609 | Buffalo, NY | Safety Zone (Part 165) | 7/24/2011
USCG-2011-0631 | Sector Columbia River | Safety Zone (Part 165) | 7/8/2011
USCG-2011-0636 | Philadelphia, PA | Security Zone (Part 165) | 6/30/2011
USCG-2011-0638 | Haines, AK | Safety Zone (Part 165) | 7/4/2011
USCG-2011-0639 | Skagway, AK | Safety Zone (Part 165) | 7/3/2011
USCG-2011-0640 | Wrangell, AK | Safety Zone (Part 165) | 7/4/2011
USCG-2011-0649 | DC, Arlington, Fairfax, VA | Security Zone (Part 165) | 9/8/2011
USCG-2011-0654 | Charles County, MD | Safety Zone (Part 165) | 7/23/2011
USCG-2011-0660 | Sector Columbia River | Safety Zone (Part 165) | 7/4/2011
USCG-2011-0664 | Alaska Hwy Ferry Terminal | Safety Zone (Part 165) | 7/5/2011
USCG-2011-0665 | Alaska Hwy Ferry Terminal | Safety Zone (Part 165) | 7/7/2011
USCG-2011-0666 | Alaska Hwy Ferry Terminal | Safety Zone (Part 165) | 9/7/2011
USCG-2011-0670 | Santa, CA | Safety Zone (Part 165) | 8/5/2011
USCG-2011-0678 | Alaska Hwy Ferry Terminal | Safety Zone (Part 165) | 7/9/2011
USCG-2011-0680 | Baton Rouge, LA | Safety Zone (Part 165) | 7/13/2011
USCG-2011-0682 | Cleveland, OH | Safety Zone (Part 165) | 7/30/2011
USCG-2011-0683 | Ogdensburg, NY | Safety Zone (Part 165) | 7/29/2011
USCG-2011-0684 | Cleveland, OH | Safety Zone (Part 165) | 7/30/2011
USCG-2011-0685 | Sackets Harbor, NY | Safety Zone (Part 165) | 7/16/2011
USCG-2011-0686 | Lake Erie, Rocky River, OH | Safety Zone (Part 165) | 7/14/2011
USCG-2011-0700 | Marblehead, MA | Safety Zone (Part 165) | 7/23/2011
USCG-2011-0707 | Wheeling, WV | Safety Zone (Part 165) | 7/23/2011
USCG-2011-0715 | Suffolk, VA | Safety Zone (Part 165) | 7/22/2011
USCG-2011-0716 | Port of New York | Safety Zone (Part 165) | 9/10/2011
USCG-2011-0720 | Chaumont, NY | Safety Zone (Part 165) | 7/23/2011
USCG-2011-0722 | Grand Haven, MI | Safety Zone (Part 165) | 8/3/2011
USCG-2011-0722 | Cleveland, OH | Safety Zone (Part 165) | 8/7/2011
USCG-2011-0725 | Pittsburgh, PA | Special Local Regulation (Part 100) | 7/31/2011
USCG-2011-0726 | Lake Tahoe | Safety Zone (Part 165) | 9/4/2011
USCG-2011-0729 | Oswego, NY | Safety Zone (Part 165) | 7/30/2011
USCG-2011-0730 | Manchester Bay, MA | Safety Zone (Part 165) | 7/30/2011
USCG-2011-0742 | Caribbean Sea, PR | Safety Zone (Part 165) | 9/18/2011
USCG-2011-0743 | Tampa, FL | Special Local Regulation (Part 100) | 10/8/2011
USCG-2011-0746 | Wheeling, WV | Special Local Regulation (Part 100) | 9/3/2011
USCG-2011-0747 | Baton Rouge, LA | Safety Zone (Part 165) | 8/28/2011
USCG-2011-0751 | Buffalo, NY | Safety Zone (Part 165) | 7/29/2011
USCG-2011-0753 | Port Huron, MI | Special Local Regulation (Part 100) | 8/7/2011
USCG-2011-0756 | Baldwinsville, NY | Safety Zone (Part 165) | 8/5/2011
USCG-2011-0757 | Conneaut, OH | Safety Zone (Part 165) | 8/20/2011
USCG-2011-0760 | Washington DC | Security Zone (Part 165) | 8/28/2011
USCG-2011-0764 | Chicago, IL | Security Zone (Part 165) | 8/3/2011
USCG-2011-0765 | Pittsburgh, PA | Safety Zone (Part 165) | 8/17/2011
USCG-2011-0776 | Buffalo, NY | Safety Zone (Part 165) | 8/14/2011
USCG-2011-0779 | San Diego, CA | Safety Zone (Part 165) | 8/14/2011
USCG-2011-0780 | Cook Inlet, AK | Safety Zone (Part 165) | 8/7/2011
USCG-2011-0790 | San Diego, CA | Safety Zone (Part 165) | 9/1/2011
USCG-2011-0791 | Boothbay Harbor, ME | Safety Zone (Part 165) | 8/13/2011
USCG-2011-0792 | Hampton Bays, NY | Security Zone (Part 165) | 8/15/2011
USCG-2011-0793 | Pascagoula, MS | Safety Zone (Part 165) | 8/15/2011
USCG-2011-0794 | Panama City, FL | Safety Zone (Part 165) | 10/7/2011
USCG-2011-0800 | Oahu, HI | Security Zone (Part 165) | 11/10/2011
USCG-2011-0802 | Sussex County, DE | Safety Zone (Part 165) | 8/15/2011
USCG-2011-0811 | West Linn, OR | Safety Zone (Part 165) | 9/4/2011
USCG-2011-0813 | Ashland City, TN | Special Local Regulation (Part 100) | 9/10/2011
USCG-2011-0815 | Upper Mississippi River | Security Zone (Part 165) | 8/17/2011
USCG-2011-0818 | Grand Island, NY | Safety Zone (Part 165) | 9/10/2011
USCG-2011-0819 | Kendall, NY | Safety Zone (Part 165) | 9/3/2011
USCG-2011-0820 | Laughlin, NV | Safety Zone (Part 165) | 9/4/2011
USCG-2011-0823 | Illinois River | Safety Zone (Part 165) | 9/17/2011
USCG-2011-0824 | Erie, PA | Safety Zone (Part 165) | 8/21/2011
USCG-2011-0827 | San Diego, CA | Safety Zone (Part 165) | 9/16/2011
USCG-2011-0832 | San Diego, CA | Safety Zone (Part 165) | 9/18/2011
USCG-2011-0833 | Southport, ME | Drawbridge Operation Regulation (Part 117) | 9/8/2011
USCG-2011-0835 | San Francisco, CA | Safety Zone (Part 165) | 9/27/2011
USCG-2011-0836 | Sausalito, CA | Safety Zone (Part 165) | 9/24/2011
USCG-2011-0840 | Oceanside, CA | Safety Zone (Part 165) | 9/25/2011
USCG-2011-0845 | San Francisco, CA | Special Local Regulation (Part 100) | 10/6/2011
USCG-2011-0849 | Hampton Roads, VA | Safety Zone (Part 165) | 8/26/2011
USCG-2011-0850 | Baltimore, MD | Safety Zone (Part 165) | 8/27/2011
USCG-2011-0853 | Bronx, NY | Safety Zone (Part 165) | 9/8/2011
USCG-2011-0858 | Virginia Beach, VA | Safety Zone (Part 165) | 9/4/2011
USCG-2011-0859 | Fall River, MA | Drawbridge Operation Regulation (Part 117) | 9/11/2011
USCG-2011-0860 | Agate Pass, WA | Safety Zone (Part 165) | 9/14/2011
USCG-2011-0863 | Detroit, MI | Security Zone (Part 165) | 9/5/2011
USCG-2011-0866 | Sacramento, CA | Drawbridge Operation Regulation (Part 117) | 10/9/2011
USCG-2011-0871 | Alaska Hwy Ferry Terminal | Safety Zone (Part 165) | 9/8/2011
USCG-2011-0872 | Miami, FL | Safety Zone (Part 165) | 9/25/2011
USCG-2011-0873 | Virginia Beach, VA | Safety Zone (Part 165) | 10/1/2011
USCG-2011-0889 | Clearwater, FL | Safety Zone (Part 165) | 10/1/2011
USCG-2011-0892 | Tampa, FL | Safety Zone (Part 165) | 10/11/2011
USCG-2011-0896 | Clearwater, FL | Safety Zone (Part 165) | 10/15/2011
USCG-2011-0898 | Upper Mississippi River | Safety Zone (Part 165) | 9/13/2011
USCG-2011-0900 | Portland, OR | Safety Zone (Part 165) | 10/1/2011
USCG-2011-0913 | San Diego, CA | Special Local Regulation (Part 100) | 10/15/2011
USCG-2011-0927 | Kodiak Island, AK | Safety Zone (Part 165) | 9/27/2011
USCG-2011-0928 | Philadelphia, PA | Safety Zone (Part 165) | 9/24/2011
USCG-2011-0930 | Liberty Island, NY | Safety Zone (Part 165) | 10/28/2011
USCG-2011-0933 | Portsmouth, NH | Safety Zone (Part 165) | 10/2/2011
USCG-2011-0935 | Marco Island, FL | Safety Zone (Part 165) | 10/29/2011
USCG-2011-0951 | Somers Point, NJ | Safety Zone (Part 165) | 10/3/2011
USCG-2011-0952 | Bratenahl, OH | Safety Zone (Part 165) | 10/4/2011
USCG-2011-0957 | Ogdensburg, NY | Safety Zone (Part 165) | 10/8/2011
USCG-2011-0963 | Wilmington, DE | Safety Zone (Part 165) | 10/8/2011
USCG-2011-0965 | Pittsburgh, PA | Security Zone (Part 165) | 10/11/2011
USCG-2011-0988 | Zilwaukee, MI | Safety Zone (Part 165) | 10/21/2011
USCG-2011-1012 | Jacksonville, FL | Safety Zone (Part 165) | 11/3/2011
USCG-2011-1016 | Matlacha, FL | Safety Zone (Part 165) | 10/25/2011
USCG-2011-1018 | St. Petersburg, FL | Safety Zone (Part 165) | 11/4/2011
USCG-2011-1031 | Baltimore, MD | Security Zone (Part 165) | 11/1/2011
USCG-2011-1036 | Pittsburgh, PA | Security Zone (Part 165) | 11/4/2011
USCG-2011-1040 | Washington DC | Security Zone (Part 165) | 11/2/2011
USCG-2011-1043 | Hampton, VA | Safety Zone (Part 165) | 11/4/2011
USCG-2011-1054 | Miami, FL | Safety Zone (Part 165) | 11/8/2011
USCG-2011-1064 | Portland, OR | Drawbridge Operation Regulation (Part 117) | 11/15/2011

[FR Doc. 2012-2742 Filed 2-6-12; 8:45 am]

BILLING CODE 9110-04-P